DEPARTMENT OF TRANSPORTATION

Federal Aviation Administration

14 CFR Part 71

[Docket No. FAA-2022-1028; Airspace Docket No. 22-ASO-9]

RIN 2120-AA66

Amendment and Revocation of Air Traffic Service (ATS) Routes; Eastern United States

AGENCY: Federal Aviation Administration (FAA), DOT.

ACTION: Final rule.

SUMMARY: This action modifies VHF Omnidirectional Range (VOR) Federal airways V-5, V-20, V-155, V-241, and V-321; and removes jet routes J-37, J-55, J-79, J-121, J-174, J-191, and J-209. These changes support the VOR Minimum Operation Network (MON) project in the eastern United States.

DATES: Effective date 0901 UTC, April 20, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

History

The FAA published a notice of proposed rulemaking for Docket No. FAA-2022-1028 in the Federal Register (87 FR 52707; August 29, 2022), amending five VOR Federal airways and removing seven jet routes in the eastern United States. Interested parties were invited to participate in this rulemaking effort by submitting written comments on the proposal. No comments were received.

Domestic VOR Federal airways are published in paragraph 6010(a) and jet routes are published in paragraph 2004 of FAA Order JO 7400.11G, dated August 19, 2022, and effective September 15, 2022, which is incorporated by reference in 14 CFR 71.1. The VOR Federal airways and jet routes listed in this document will be subsequently published in or removed from FAA Order JO 7400.11.

Differences From the NPRM

The NPRM proposed, in part, to amend V-20 by removing the airway segments between Tuskegee, AL, and Sugarloaf Mountain, NC. This would result in a gap in the airway from Montgomery, AL, to Barretts Mountain, NC. After further consideration, the FAA decided to retain the segments between Athens, GA, and Barretts Mountain, NC. The purpose of this change is to maintain the east-west airway structure between Athens and Barretts Mountain for navigation while the supporting navigation aids remain in operation.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by modifying V-5, V-20, V-155, V-241, and V-321; and by removing jet routes J-37, J-55, J-79, J-121, J-174, J-191, and J-209. The route changes are described below.

V-5: V-5 extends from Pecan, GA, to Appleton, OH. This action removes the segments from the intersection of the Athens, GA 340° and the Electric City, SC 274° radials, to Choo, GA. As amended, V-5 extends, in two parts, from Pecan, GA to Athens, GA; and from New Hope, KY, to Appleton, OH.

V-20: V-20 extends, in two parts, from McAllen, TX, to Palacios, TX; and from Beaumont, TX, to Nottingham, MD. This action removes the segments between Montgomery, AL, and Athens, GA; and removes the segments between the intersection of the Richmond, VA 039° and the Brooke, VA 132° radials, and Nottingham, MD. As amended, V-20 consists of three parts: From McAllen, TX, to Palacios, TX; From Beaumont, TX, to Montgomery, AL; and From Athens, GA to Richmond, VA. In addition the wording, “The airspace within R-4007A and R-4007B is excluded” is removed from the route description because the amended route no longer passes in the vicinity of the restricted areas.

V-155: V-155 extends from Columbus, GA to Brooke, VA. The FAA is removing the segments from Columbus, GA to the intersection of the Columbus 068° and the Colliers, SC, 243° radials (the charted SINCA Fix). The SINCA, GA, Fix is redefined by replacing the Columbus radial with the Dublin, GA, 309°(T)/314°(M) radial. This supports the scheduled decommissioning of the Columbus, GA (CSG), VHF Omnidirectional Range and Tactical Air Navigational System (VORTAC). As amended, V-155 extends from the intersection of the Dublin, GA, 309°(T)/314°(M) and Colliers, SC 243° radials, to Brooke, VA.

V-241: V-241 extends from Semmes, AL to the intersection of the Columbus, GA 010° and the LaGrange, GA 048° radials (the charted TIROE, GA, Fix). The FAA is removing the segments from Columbus, GA to the TIROE Fix. The intersection of the Eufaula, AL 008°(T)/006°(M) and the LaGrange, GA 160°(T)/159°(M) is used in place of the Columbus, GA (CSG), VORTAC. As amended, V-241 extends from Semmes, AL, to the intersection of the Eufaula, AL 008°(T)/006°(M) and the LaGrange, GA 160°(T)/159°(M) radials.

V-321: V-321 extends from Pecan, GA to Livingston, TN. The FAA is removing the Columbus, GA (CSG), VORTAC from the route and replacing it with the intersection of the Pecan, GA 327°(T)/329°(M) and the LaGrange, GA 160°(T)/159°(M) radials. Otherwise, V-321 continues to extend from Pecan, GA, to Livingston, TN.

J-37: J-37 consists of three parts: from Harvey, LA; to Montgomery, AL; from Lynchburg, VA; to Coyle, NJ; and from Kennedy, NY; to Albany, NY. The FAA is removing the entire route. Area navigation (RNAV) routes Q-22, Q-127, and Q-479 will be published as a partial overlay and replacement of J-37.

J-55: J-55 consists of two parts: from the intersection of the Flat Rock, VA, 212° and Raleigh-Durham, NC, 224° radials; to the intersection of the Hopewell, VA 030° and Nottingham, MD, 174° radials; and from Sea Isle, NJ to Presque Isle, ME. This action removes the entire route. RNAV routes Q-167, Q-220, Q-439, and Q-445 will be published to replace J-55, reflecting current traffic flows in the area.

J-79: J-79 extends from Charleston, SC to Bangor, ME. This action removes the entire route. RNAV route Q-133 will be published as a partial overlay and replacement of J-79.

J-121: J-121 extends from Charleston, SC to the intersection of the Sea Isle, NJ 050° and the Cedar Lake, NJ 091° radials. This action removes the entire route. RNAV route Q-109 will be published as a partial overlay and replacement of J-121.

J-174: J-174 extends from Charleston, SC to the intersection of the Marconi, MA 090° and Nantucket, MA 066° radials. This action removes the entire route. RNAV route Q-97 will be published as a partial overlay and replacement of J-174.

J-191: J-191 extends from Hopewell, VA to Wilmington, NC. This action removes the entire route. RNAV routes Q-85 and Q-409 will be published to replace J-191, reflecting current traffic flows in this area.

J-209: J-209 extends from Raleigh-Durham, NC to the intersection of the Coyle, NJ 036° and the Robbinsville, NJ, 136° radials. This action removes the entire route. The route is no longer used by air traffic control and no overlay is required. Other Performance Based Navigation structures will be implemented reflecting current traffic flows in this area.

Full descriptions of the above amended routes are listed in the amendments to part 71 set forth below.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airways V-5, V-20, V-155, V-241, and V-321; and removing jet routes J-37, J-55, J-79, J-121, J-174, J-191, and J-209, in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways). . .”. As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G Airspace Designations and Reporting Points, dated August 19, 2022, and effective September 15, 2022, is amended as follows:

Paragraph 6010(a) Domestic VOR Federal Airways.

* * * * *

V-5 [Amended]

From Pecan, GA; Vienna, GA; Dublin, GA; to Athens, GA. From New Hope, KY; Louisville, KY; Cincinnati, OH; to Appleton, OH.

* * * * *

V-20 [Amended]

From McAllen, TX, INT McAllen 038° and Corpus Christi, TX, 178° radials; 10 miles 8 miles wide, 37 miles 7 miles wide (3 miles E and 4 miles W of centerline), Corpus Christi; INT Corpus Christi 054° and Palacios, TX, 226° radials; to Palacios. From Beaumont, TX; Lake Charles, LA; Lafayette, LA; Reserve, LA; INT Reserve 084° and Gulfport, MS, 247° radials; Gulfport; Semmes, AL; INT Semmes 048° and Monroeville, AL, 231° radials; Monroeville; to Montgomery, AL; From Athens, GA; Electric City, SC; Sugarloaf Mountain, NC; Barretts Mountain, NC; South Boston, VA; to Richmond, VA. The airspace on the main airway above 14,000 feet MSL from McAllen to 49 miles northeast and the airspace within Mexico is excluded.

* * * * *

V-155 [Amended]

From INT Dublin, GA 309°(T)/314°(M) and Colliers, SC, 243° radials; Colliers; Chesterfield, SC; Sandhills, NC; Raleigh-Durham, NC; Lawrenceville, VA; INT Lawrenceville 034° and Flat Rock, VA, 171° radials; Flat Rock; to Brooke, VA. The airspace within R-6602A is excluded.

* * * * *

V-241 [Amended]

From Semmes, AL, via Crestview, FL; INT Crestview 076° and Wiregrass, AL, 232° radials; Wiregrass; Eufaula, AL; to INT Eufaula, AL 008°(T)/006° (M) and LaGrange, GA, 160°(T)/159°(M) radials.

* * * * *

V-321 [Amended]

From Pecan, GA, via INT Pecan 327°(T)/329°(M) and LaGrange, GA, 160°(T)/159°(M) radials; LaGrange; INT LaGrange 342° and Gadsden, AL, 124° radials; Gadsden; INT Gadsden 333° and Rocket, AL, 149° radials; Rocket, Shelbyville, TN; to Livingston, TN.

* * * * *

Paragraph 2004 Jet Routes.

* * * * *

J-37 [Removed]

* * * * *

J-55 [Removed]

* * * * *

J-79 [Removed]

* * * * *

J-121 [Removed]

* * * * *

J-174 [Removed]

* * * * *

J-191 [Removed]

* * * * *

J-209 [Removed]

* * * * *

Issued in Washington, DC, on January 17, 2023.
Brian Konie,
Acting Manager, Airspace Rules and Regulations.

[FR Doc. 2023-01135 Filed 1-20-23; 8:45 am]

BILLING CODE 4910-13-P